DEPARTMENT OF COMMERCE

National Oceanic and Atmospheric Administration

RIN 0648-XC192

Endangered and Threatened Species; Recovery Plans

AGENCY: National Marine Fisheries Service (NMFS), National Oceanic and Atmospheric Administration (NOAA), Commerce.

ACTION: Notice of Availability and notice of public meetings.

SUMMARY: NMFS announces the adoption of a Final Endangered Species Act (ESA) recovery plan for the Central California Coast coho salmon (Oncorhynchus kisutch) Evolutionarily Significant Unit (ESU). The Final Recovery Plan for Central California Coast coho salmon (Final Recovery Plan) is now available. In addition, informative public meetings will be held (see below for dates and locations).

ADDRESSES: Electronic copies of the Final Recovery Plan are available online at: http://www.nmfs.noaa.gov/pr/recovery/plans/htm, http://swr.nmfs.noaa.gov/recovery/index.htm.

A CD-ROM of the Final Recovery Plan can be obtained by emailing a request to Andrea.Berry@noaa.gov with the subject line “CD-ROM Request for CCC coho Salmon Recovery Plan”, by phone at 707-200-2788, or by writing to NMFS Protected Resources Division, 777 Sonoma Avenue, Room 325, Santa Rosa, CA 95404 ATTN: Recovery Coordinator.

FOR FURTHER INFORMATION CONTACT: Charlotte Ambrose, Central California Coast Recovery Coordinator by email to Charlotte.A.Ambrose@noaa.gov or by phone at 707-575-6068.

SUPPLEMENTARY INFORMATION:

Background

The Endangered Species Act of 1973 (ESA), as amended (16 U.S.C. 1531 et seq.) requires that we (NOAA) develop and implement recovery plans for the conservation and survival of threatened and endangered species under our jurisdiction, unless it is determined that such plans would not result in the conservation of the species. We designated Central California Coast coho salmon as threatened in the Federal Register on October 21, 1996 (61 FR 56138). Due to severe declines, we uplisted the species to endangered status on June 28, 2005 (70 FR 37160). We published a Notice of Availability of the Draft Recovery Plan in the Federal Register on March 18, 2010 (75 FR 13081) and held three public meetings to obtain comments on the Draft Plan. In response to multiple requests, we extended the public comment period for an additional 60 days on May 7, 2010 (75 FR 25204). We received extensive comments on the Draft Plan, summarized the comments and identified the comments that prompted revisions for the Final Recovery Plan. We revised the Draft Plan based on the comments received, and this final version now constitutes the Recovery Plan for the Evolutionarily Significant Unit of Central California Coast Coho Salmon.

The Final Plan

The ESA requires that recovery plans incorporate, to the extent practicable: (1) Objective, measurable criteria which, when met, would result in a determination that the species is no longer threatened or endangered; (2) site-specific management actions necessary to achieve the plan's goals; and (3) estimates of the time required and costs to implement recovery actions. Our goal is to restore endangered Central California Coast coho salmon to the point where they are again secure, self-sustaining members of their ecosystems and no longer need the protections of the ESA.

The Final Recovery Plan provides background on the natural history of Central California Coast coho salmon, population trends and the potential threats to their viability. The Final Recovery Plan lays out a recovery strategy to address the potential threats based on the best available science and includes goals that incorporate objective, measurable criteria which, when met, would result in a determination that the species be removed from the list. The Final Recovery Plan is not regulatory, but presents guidance for use by agencies and interested parties to assist in the recovery of Central California Coast coho salmon. The Final Recovery Plan identifies substantive actions needed to achieve recovery by addressing the threats to the species. The strategy for recovery includes a linkage between management actions and an active research and monitoring program intended to fill data gaps and assess effectiveness. The Final Recovery Plan incorporates an adaptive management framework by which management actions and other elements will evolve and adapt as we gain information through research and monitoring and it describes the agency guidance on time lines for reviews of the status of species and recovery plans. To address threats related to the species, the Final Recovery Plan references many of the significant efforts already underway to restore Central California Coast coho salmon access to high quality habitat and to improve habitat previously degraded.

We expect the Final Recovery Plan to help us and other Federal agencies take a consistent approach to section 7 consultations under the ESA and to other ESA decisions. For example, the Final Recovery Plan will provide information on the biological context for the effects that a proposed action may have on the listed ESU. The best available information in the Final Recovery Plan on the natural history, threats, and potential limiting factors, and priorities for recovery can be used to help assess risks. Consistent with the adoption of this Final Recovery Plan for Central California Coast coho salmon, we will implement relevant actions for which we have authority, work cooperatively on implementation of other actions, and encourage other Federal and state agencies to implement recovery actions for which they have responsibility and authority.

Recovery of Central California Coast coho salmon will require a long-term effort in cooperation and coordination with Federal, state, tribal and local government agencies, and the community.

Conclusion

NMFS has reviewed the Plan for compliance with the requirements of ESA section 4(f), determined that it does incorporate the required elements and is therefore adopting it as the Final Recovery Plan for Central California Coast coho salmon.

Public Meetings

Public meetings are planned for Ukiah, Santa Cruz, and Santa Rosa, CA. Workshops will be held at the locations and dates listed below:

September 11, 2012, 10 a.m.-12 p.m.; Redwood Empire Fairgrounds, Fair Arts Building, 1055 State Street, Ukiah, CA, 95482. | September 5, 2012, 10 a.m.-12 p.m.; Hilton Santa Cruz/Scotts Valley, Pine/Oak Room, 6001 La Madrona Drive, Santa Cruz, CA 95060. | September 6, 2012, 10 a.m.-12 p.m.; Wells Fargo Center for the Arts, Carston Cabaret Room, 50 Mark West Springs Road Santa Rosa, CA 95403.

Information on exact locations, dates and times will also be posted on the above Web site.

Authority: 16 U.S.C. 1531 et seq.

Dated: August 29, 2012.
Angela Somma,
Chief, Endangered Species Division, Office of Protected Resources, National Marine Fisheries Service.

[FR Doc. 2012-21850 Filed 9-4-12; 8:45 am]

BILLING CODE 3510-22-P